Proclamation 8876 of October 1, 2012

National Disability Employment Awareness Month, 2012

By the President of the United States of America

A Proclamation

In the 22 years since the signing of the Americans with Disabilities Act, we have made significant progress in giving all Americans the freedom to make of our lives what we will. Yet, in times of prosperity as well as challenge, people with disabilities have had fewer opportunities in our workplaces than those without. As we work to revitalize our economy, it is essential that each of us can bring our talents, expertise, and passion to bear in the marketplace. But a stronger economy is not enough; we must ensure not only full participation, but also full opportunity. During National Disability Employment Awareness Month, we recognize the indispensable contributions people with disabilities make in our economy and recommit to building a country where each of us can realize the full extent of our dreams.

Because America's workforce should reflect the diversity of its people—including people with disabilities—my Administration remains committed to helping our businesses, schools, and communities support our entire workforce. To meet this challenge, the Federal Government must be a model employer. That is why I was proud to sign an Executive Order in 2010 that called on Federal agencies to increase recruitment, hiring, and retention of people with disabilities. In 2012, the Office of Personnel Management reported on our progress, revealing that we are moving toward meeting our goal of hiring an additional 100,000 people with disabilities into the Federal workforce over 5 years. Today, more people with disabilities work for the Federal Government than at any time in the past 20 years, and we are striving to make it easier to get and keep those jobs by improving compliance with Section 508 of the Rehabilitation Act.

All Americans are entitled to an accessible workplace, a level playing field, and the same privileges, pursuits, and opportunities as any of their family, friends, and neighbors. This month, let us rededicate ourselves to bringing down barriers and raising up aspirations for all our people, regardless of disability, so we may share in a brighter future together.

NOW, THEREFORE, I, BARACK OBAMA, President of the United States of America, by virtue of the authority vested in me by the Constitution and the laws of the United States, do hereby proclaim October 2012 as National Disability Employment Awareness Month. I urge all Americans to embrace the talents and skills that individuals with disabilities bring to our workplaces and communities and to promote the right to equal employment opportunity for all people.

IN WITNESS WHEREOF, I have hereunto set my hand this first day of October, in the year of our Lord two thousand twelve, and of the Independence of the United States of America the two hundred and thirty-seventh.

[FR Doc. 2012-24678

Filed 10-3-12; 8:45 am]

Billing code 3295-F3